DEPARTMENT OF THE INTERIOR

National Park Service

[NPS-WASO-NAGPRA-12665; PPWOCRADN0-PCU00RP14.R50000]

Notice of Inventory Completion: The Florida Department of State, Division of Historical Resources, Tallahassee, FL

AGENCY: National Park Service, Interior.

ACTION: Notice.

SUMMARY: The Florida Department of State, Division of Historical Resources, has completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to The Florida Department of State, Division of Historical Resources. If no additional requestors come forward, transfer of control of the human remains to the Indian tribes or Native Hawaiian organizations stated in this notice may proceed.

DATES: Representatives of any Indian tribe or Native Hawaiian organization not identified in this notice that wish to request transfer of control of these human remains should submit a written request with information in support of the request to The Florida Department of State, Division of Historical Resources, at the address in this notice by May 15, 2013.

ADDRESSES: Daniel M. Seinfeld, Florida Department of State, Division of Historical Resources, 1001 de Soto Park Drive, Tallahassee, FL 32301, telephone (850) 245-6301, email daniel.seinfeld@dos.myflorida.com.

SUPPLEMENTARY INFORMATION: Notice is here given in accordance with the Native American Graves Protection and Repatriation Act (NAGPRA), 25 U.S.C. 3003, of the completion of an inventory of human remains under the control of the Florida Department of State, Division of Historical Resources. The human remains were removed from sites in Martin, Collier, Pinellas, St. Lucie, and Volusia Counties, FL.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Florida Department of State, Division of Historical Resources, professional staff in consultation with representatives of the Miccosukee Tribe of Indians and the Seminole Tribe of Florida (previously listed as the Seminole Tribe of Florida (Dania, Big Cypress, Brighton, Hollywood & Tampa Reservations)). The Seminole Nation of Oklahoma was contacted and invited to consult, but did not participate.

History and Description of the Remains

In October 2012, human remains representing, at minimum, two individuals were removed from the Hutchinson Island Burial Mound, site 8MT37, on Chastain Beach, in Martin County, FL. Beachgoers reported to local police the discovery of the human remains exposed following a storm. Crime scene detectives with the Martin County Sheriff's Office responded and collected all exposed human remains. The human remains were transferred to the District 19 Medical Examiner's Office. The Florida Department of State, Division of Historical Resources, assumed jurisdiction over the human remains in March 2013, based on responsibilities outlined in Florida Statute 872.05. No known individuals were identified. No associated funerary objects are present. The human remains were determined to be those of two prehistoric adult males of Native American ancestry, based on non-metric analyses of the morphology. Site 8MT37 is a known prehistoric Native American archeological site.

In September 2012, human remains representing, at minimum, one individual were removed from the southern shoreline of Keewaydin Island in Collier County, FL. A tourist found the remains on the surface while looking for shells and took them home to Illinois. Initially believing the remains to be from a mastodon, she brought them to a paleontologist at the Illinois State Museum. A physical anthropologist with the Illinois State Museum analyzed the remains and determined them to be human. The remains were then transferred to the District 20 Medical Examiner in Florida. The Florida Department of State, Division of Historical Resources, assumed jurisdiction over the human remains in March 2013, based on responsibilities outlined in Florida Statute 872.05. No known individuals were identified. No associated funerary objects are present. The human remains were determined to be those of a prehistoric Native American individual, based on dental wear. There is no known archeological site in the area, but the discovery of the human remains near shell suggests that the site may be an unrecorded prehistoric shell midden.

In 1959, a Florida resident removed human remains representing, at minimum, one individual from an archaeological site in what would later become the Weedon Island Preserve Cultural and Natural History Center in Pinellas County, FL. The resident gave the remains to her neighbor. After the neighbor died in 2012, the human remains were brought to Phyllis Kolianos, an archaeologist with the Weedon Island Preserve Cultural and Natural History Center. The Florida Department of State, Division of Historical Resources, assumed jurisdiction over the human remains in May 2012, based on responsibilities outlined in Florida Statute 872.05. No known individuals were identified. No associated funerary objects are present. The remains were determined to be those of a prehistoric Native American individual, based on their dental wear and cranial morphology. There are numerous archeological sites on the Weedon Island, but the exact site location is unknown.

In 1998 and 1999, human remains representing, at minimum, one individual were removed from the Fort Pierce Inlet State Park in St. Lucie County, FL. An individual illegally collected the human remains from the park. After this individual died, his widow brought the remains to a member of a Florida Anthropological Society (FAS). In October 2012, the FAS member contacted the office of the Florida State Archaeologist and was instructed to alert local law enforcement. The St. Lucie County sheriff sent the remains to the District 19 Medical Examiner. The Florida Department of State, Division of Historical Resources, assumed jurisdiction over the human remains in December 2012, based on responsibilities outlined in Florida Statute 872.05. No known individuals were identified. No associated funerary objects are present. The human remains were determined to be those of a prehistoric Native American individual, based on their condition. Handwritten notes accompanying the human remains indicate that they were collected from “Indian Burial Grounds” in Fort Pierce Inlet State Park. There are numerous archeological sites in the park, but the exact site location is unknown.

In the 1960s and 1970s, human remains representing, at minimum, one individual were removed from the Blue Springs Midden, site 8VO43, in Volusia County, FL. A visitor to Florida collected numerous items, including these human remains, while diving in springs and rivers. In January 2013, while passing through Tallahassee, the visitor decided to donate his collection to the Florida Department of State, Division of Historical Resources. Upon examining his collection, the Division of Historical Resources found one human bone. No known individuals were identified. No associated funerary objects are present. Based on the visitor's description, the human remains are likely from the Blue Springs Midden, site 8VO43. Previous discoveries at the archeological site suggest that these human remains are likely Native American.

Determinations Made by the Florida Department of State, Division of Historical Resources

Officials of the Florida Department of State, Division of Historical Resources, have determined that:

• Pursuant to 25 U.S.C. 3001(9), the human remains described in this notice are Native American based on archeological context and osteological analysis.

• Pursuant to 25 U.S.C. 3001(9), the human remains described in this notice represent the physical remains of six individuals of Native American ancestry.

• Pursuant to 25 U.S.C. 3001(2), a relationship of shared group identity cannot be reasonably traced between the Native American human remains and any present-day Indian tribe.

• According to final judgments of the Indian Claims Commission, the land from which the Native American human remains were removed is the aboriginal land of the Seminole Tribe of Florida (previously listed as the Seminole Tribe of Florida (Dania, Big Cypress, Brighton, Hollywood & Tampa Reservations)) and The Seminole Nation of Oklahoma.

• Pursuant to 43 CFR 10.11(c)(1), the disposition of the human remains may be to the Seminole Tribe of Florida (previously listed as the Seminole Tribe of Florida (Dania, Big Cypress, Brighton, Hollywood & Tampa Reservations)) and The Seminole Nation of Oklahoma.

Additional Requestors and Disposition

Representatives of any Indian tribe or Native Hawaiian organization not identified in this notice that wish to request transfer of control of these human remains should submit a written request with information in support of the request to Daniel M. Seinfeld, Florida Department of State, Division of Historical Resources, 1001 de Soto Park Drive, Tallahassee, FL 32301, telephone (850) 245-6301, email daniel.seinfeld@dos.myflorida.com, by May 15, 2013. After that date, if no additional requestors have come forward, transfer of control of the human remains to the Seminole Tribe of Florida (previously listed as the Seminole Tribe of Florida (Dania, Big Cypress, Brighton, Hollywood & Tampa Reservations)) and The Seminole Nation of Oklahoma may proceed.

The Florida Department of State, Division of Historical Resources, is responsible for notifying the Seminole Tribe of Florida (previously listed as the Seminole Tribe of Florida (Dania, Big Cypress, Brighton, Hollywood & Tampa Reservations)) and The Seminole Nation of Oklahoma that this notice has been published.

Dated: March 25, 2013.
Sherry Hutt,
Manager, National NAGPRA Program.

[FR Doc. 2013-08779 Filed 4-12-13; 8:45 am]

BILLING CODE 4312-50-P